DEPARTMENT OF TRANSPORTATION

Federal Railroad Administration

49 CFR Parts 229 and 238

[Docket No. FRA-2004-17645, Notice No. 2]

RIN 2130-AB23

Locomotive Crashworthiness

AGENCY: Federal Railroad Administration (FRA), Department of Transportation (DOT).

ACTION: Notice of proposed rulemaking (NPRM); extension of comment period.

SUMMARY: On November 2, 2004, FRA published a Notice of Proposed Rulemaking (NPRM) in the Federal Register (69 FR 63890) proposing to establish comprehensive, minimum standards for locomotive crashworthiness. In that NPRM, FRA established a January 3, 2005 deadline for submission of written comments. FRA has received a request to extend the comment period to give interested parties additional time to review, analyze, and submit comments on the NPRM. After considering this request, FRA has decided to extend the comment period until February 3, 2005. This notice announces the extension of the comment period.

DATES: Written Comments: Comments must be received by February 3, 2005. Comments received after that date will be considered to the extent possible without incurring additional expense or delay.

ADDRESSES: You may submit comments identified by DOT DMS Docket Number FRA-2004-17645 by any of the following methods:

• Web site: http://dms.dot.gov. Follow the instructions for submitting comments to the DOT electronic docket Web site.

• Fax: Comments may be faxed to the following number: 1-202-493-2251.

• Mail: Comments may be mailed to the Docket Management Facility at the U.S. Department of Transportation, 400 Seventh Street, SW., Nassif Building, Room PL-401, Washington, DC 20590-001.

• Hand Delivery: Hand deliver comments to Room PL-401 on the plaza level of the Nassif Building, which is located at 400 Seventh Street, SW., Washington, DC between 9 a.m. and 5 p.m., Monday through Friday, except Federal holidays.

• Federal e-Rulemaking Portal: Go to http://www.regulations.gov. Follow the online instructions for submitting comments.

Instructions: All submissions must include the agency name and docket name and docket number or Regulatory Identification Number (RIN) for this rulemaking. Note that all comments received will be posted without change to http://dms.dot.gov, including any personal information provided.

Docket: For access to the docket to read background documents or comments received, go to http://dms.dot.gov at any time or to Room PL-401 on the plaza level of the Nassif Building, 400 Seventh Street, SW., Washington, DC between 9 a.m. and 5 p.m., Monday through Friday, except Federal holidays.

FOR FURTHER INFORMATION CONTACT: John Punwani, Office of Research and Development, Federal Railroad Administration, 1120 Vermont Avenue, NW., Mail Stop 20, Washington, DC 20590 (telephone: (202) 493-6369); Charles L. Bielitz, Mechanical Engineer, Office of Safety Assurance and Compliance, Federal Railroad Administration, 1120 Vermont Avenue, NW., Mail Stop 25, Washington, DC 20590 (telephone: (202) 493-6314); or Darrell L. Tardiff, Trial Attorney, Office of Chief Counsel, Federal Railroad Administration, 1120 Vermont Avenue, NW., Mail Stop 10, Washington, DC 20590 (telephone: (202) 493-6038).

Issued in Washington, DC, on January 5, 2005.
Robert D. Jamison,
Acting Administrator.

[FR Doc. 05-570 Filed 1-11-05; 8:45 am]

BILLING CODE 4910-06-P